ENVIRONMENTAL PROTECTION AGENCY

40 CFR Part 52

[CA287-0458; FRL-7781-9]

Revisions to the California State Implementation Plan, South Coast Air Quality Management District

AGENCY: Environmental Protection Agency (EPA).

ACTION: Final rule.

SUMMARY: EPA is finalizing approval of revisions to the South Coast Air Quality Management District (SCAQMD) portion of the California State Implementation Plan (SIP). These revisions were proposed in the Federal Register on March 22, 2004 and concern volatile organic compound (VOC) and ammonia (NH3) emissions from composting and related activities. We are approving local rules that regulate these emission sources under the Clean Air Act as amended in 1990 (CAA or the Act).

DATES: This rule is effective on August 20, 2004.

ADDRESSES: You can inspect copies of the administrative record for this action at EPA's Region IX office during normal business hours by appointment. You can inspect copies of the submitted SIP revisions by appointment at the following locations:

Environmental Protection Agency, Region IX, 75 Hawthorne Street, San Francisco, CA 94105-3901.

Air and Radiation Docket and Information Center, U.S. Environmental Protection Agency, Room B-102, 1301 Constitution Avenue, NW., (Mail Code 6102T), Washington, DC 20460.

California Air Resources Board, Stationary Source Division, Rule Evaluation Section, 1001 “I” Street, Sacramento, CA 95814.

South Coast Air Quality Management District, 21865 East Copley Drive, Diamond Bar, CA 91765-4182.

A copy of the rule may also be available via the Internet at http://www.arb.ca.gov/drdb/drdbltxt.htm. Please be advised that this is not an EPA Web site and may not contain the same version of the rule that was submitted to EPA.

FOR FURTHER INFORMATION CONTACT: Jerald S. Wamsley, EPA Region IX, at either (415) 947-4111, or wamsley.jerry@epa.gov.

SUPPLEMENTARY INFORMATION: Throughout this document, “we,” “us” and “our” refer to EPA.

I. Proposed Action

On March 22, 2004 (69 FR 13272 and 69 FR 13225), EPA proposed to approve the following rules into the California SIP.

Local agency | Rule # | Rule title | Adopted | Submitted
SCAQMD | 1133 | Composting and Related Operations—General Administrative Requirements | 01/10/03 | 06/05/03
SCAQMD | 1133.1 | Chipping and Grinding Activities | 01/10/03 | 06/05/03
SCAQMD | 1133.2 | Emission Reductions From Co-Composting Operations | 01/10/03 | 06/05/03

We proposed to approve these rules because we determined that they complied with the relevant CAA requirements. Our proposed action contains more information on the rules and our evaluation.

II. Public Comments and EPA Responses

EPA's proposed action provided a 30-day public comment period. During this period, we received a comment from the following party.

1. Bob Engel; electronic mail dated April 14, 2004. The comment is summarized below.

Comment: Mr. Engel opposed our approval action because the SCAQMD rules did not consider the cumulative good composting does for the environment. He then cited several of EPA's internet Web sites related to waste reduction, recycling, and their relationship to greenhouse gases. Finally, Mr. Engel suggested that EPA did not consider the effect of no action by SCAQMD.

EPA Response: To review, SCAQMD 1133, 1133.1, and 1133.2 are concerned with reducing VOC and NH3 emissions from composting that contribute to ground-level ozone and secondary particulate matter. Mr. Engel's comments do not address directly these primary objectives of Rules 1133, 1133.1, and 1133.2. Instead, the comments ask EPA to consider not approving the rules because of their supposed detrimental effect on the composting industry. In the discussion that follows, we review briefly SCAQMD supporting documents concerning these issues.

As part of their rule development effort, SCAQMD did a technology review of the composting industry and assessed the cost-effectiveness of Rules 1133, 1133.1, and 1133.2. Depending on the compliance scenario chosen, the combined cost-effectiveness per ton of VOC and NH3 reduced ranged from $6487 to $15,373; figures relatively consistent with other SCAQMD regulations. SCAQMD estimated that these compliance costs ranged from $0.004 to $0.25 per month when passed on to air basin households.

In December 2002, SCAQMD did a Final Environmental Assessment (EA) as part of their compliance with the California Environmental Quality Act (CEQA). SCAQMD's determined that Rules 1133, 1133.1, and 1133.2 had no significant environmental impacts requiring mitigation. The EA reviewed potential impacts on air quality, energy, water quality, geology, and solid/hazardous waste, as well as, other required topics. Regarding impacts on solid waste disposal, SCAQMD found that composting facilities are neither expected to close, nor to divert composting feedstock to landfills due to Rules 1133, 1133.1, and 1133.2.

In sum, the rules' compliance costs are consistent with other SCAQMD regulations and the rules are predicted to have no negative environmental impacts across multiple issue areas including solid waste disposal. Given these conclusions and the air quality improvement expected due to VOC and NH3 emission reductions, we assert that that the rules most likely result in a net benefit to the environment beyond that suggested by a no action alternative.

III. EPA Action

No comments were submitted that change our assessment that the submitted rules comply with the relevant CAA requirements. Therefore, as authorized in section 110(k)(3) of the Act, EPA is fully approving these rules into the California SIP.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children From Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 20, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: June 17, 2004.
Nancy Lindsay,
Acting Regional Administrator, Region IX.

Part 52, Chapter I, Title 40 of the Code of Federal Regulations is amended as follows:

PART 52—[AMENDED]

1. The authority citation for part 52 continues to read as follows:

Authority: 42 U.S.C. 7401 et seq.

Subpart F—California

2. Section 52.220 is amended by adding paragraph (c)(316)(i)(D) to read as follows:

§ 52.220 Identification of plan.

* * * * *

(c) * * *

(316) * * *

(i) * * *

(D) South Coast Air Quality Management District.

(1) Rule 1133 adopted on January 10, 2003; Rule 1133.1 adopted on January 10, 2003; and, Rule 1133.2 adopted on January 10, 2003.

* * * * *

[FR Doc. 04-16570 Filed 7-20-04; 8:45 am]

BILLING CODE 6560-50-P